DEPARTMENT OF HEALTH AND HUMAN SERVICES

Mandatory Guidelines for Federal Workplace Drug Testing Programs

AGENCY: Substance Abuse and Mental Health Services Administration, Department of Health and Human Services.

ACTION: HHS Approval of Entities That Certify Medical Review Officers (MROs).

SUMMARY: The recent revisions to the Department of Health and Human Services (HHS) Mandatory Guidelines for Federal Workplace Drug Testing Programs (Mandatory Guidelines) which took effect on October 1, 2010 address the role and qualifications of Medical Review Officers (MROs) and HHS approval of entities that certify MROs.

Subpart M-Medical Review Officer (MRO), Section 13.1(b), “Who may serve as an MRO?” states as follows: “Nationally recognized entities that certify MROs or subspecialty boards for physicians performing a review of Federal employee drug testing results that seek approval by the Secretary must submit their qualifications and a sample examination. Based on an annual objective review of the qualifications and content of the examination, the Secretary shall publish a list in the Federal Register of those entities and boards that have been approved.”

HHS has completed its review of entities that train and certify MROs, in accordance with requests submitted by such entities to HHS.

(1) The HHS Secretary approves the following MRO certifying entities that offer both MRO training and certification through examination:

American Association of Medical Review Officers (AAMRO), P.O. Box 12873, Research Triangle Park, NC 27709. Phone: (800) 489-1839, Fax: (919) 490-1010, E-mail: cferrell@aamro.com. Web site: http://www.aamro.com/.

Medical Review Officer Certification Council (MROCC), 836 Arlington Heights Road, #327, Elk Grove Village, IL 60007. Phone: (847) 631-0599, Fax: (847) 483-1282, E-mail: mrocc@mrocc.org. Web site: http://www.mrocc.org/.

(2) The HHS Secretary approves the following entities that offer MRO training as a prerequisite for MRO certification:

American College of Occupational and Environmental Medicine (ACOEM), 25 Northwest Point Boulevard, Suite 700, Elk Grove Village, IL 60007-1030, Phone: (847) 818-1800, Fax: (847) 818-9266, Contact Form: http://www.acoem.org/contactacoem.aspx. Web site: http://www.acoem.org/.

American Society of Addiction Medicine (ASAM), 4601 N. Park Avenue, Upper Arcade #101, Chevy Chase, MD 20815. Phone: (301) 656-3920. Fax: (301) 656-3815. E-mail: email@asam.org. Web site: http://www.asam.org/.

DATES: HHS approval is effective December 8, 2010.

FOR FURTHER INFORMATION CONTACT: Sean J. Belouin, PharmD, Division of Workplace Programs (DWP), Center for Substance Abuse Prevention (CSAP), Substance Abuse and Mental Health Services Administration (SAMHSA), 1 Choke Cherry Road, Room 2-1031, Rockville, MD 20857; Telephone: (240) 276-0545; E-mail: sean.belouin@samhsa.hhs.gov.

Dated: November 30, 2010.
Kathleen Sebelius,
Secretary.

[FR Doc. 2010-30700 Filed 12-7-10; 8:45 am]

BILLING CODE P